DEPARTMENT OF COMMERCE

International Trade Administration

[Application No. 97-14A03]

Export Trade Certificate of Review

ACTION: Notice of application for an amended Export Trade Certificate of Review for the Association for the Administration of Rice Quotas, Inc., Application No. 97-14A03.

SUMMARY: The Secretary of Commerce, through the Office of Trade and Economic Analysis (OTEA) of the International Trade Administration, received an application for an amended Export Trade Certificate of Review (Certificate). This notice summarizes the proposed amendment and requests comments relevant to whether the Certificate should be issued.

FOR FURTHER INFORMATION CONTACT: Amanda Reynolds, Acting Director, OTEA, International Trade Administration, by telephone at (202) 482-5131 (this is not a toll-free number) or email at etca@trade.gov.

SUPPLEMENTARY INFORMATION: Title III of the Export Trading Company Act of 1982 (15 U.S.C. 4011-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct for which certification is sought.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

Written comments should be sent to etca@trade.gov. An original and two (2) copies should also be submitted no later than 20 days after the date of this notice to Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 97-14A03.”

Summary of the Application

Applicant: Association for the Administration of Rice Quotas, Inc. (AARQ).

Contacts: Matthew R. Elkin, Counsel, Baker & Hostetler LLP.

Application No.: 97-14A03.

Date Deemed Submitted: April 10, 2025.

Proposed Amendment: AARQ seeks to amend its Certificate as follows:

1. Make the necessary technical changes to account for the withdrawal of the United Kingdom (UK) from the European Union (EU), including allocations of TRQ volumes for U.S. milled/semi-milled rice across the EU and the UK. The certificate will cover exports of U.S. milled/semi-milled rice to both the EU and UK under the relevant TRQs.

2. Remove the following companies as Members of the Certificate:

• Bunge Milling, Saint Louis, Missouri (a subsidiary of Bunge North America, White Plains, New York), dba PIRMI (Pacific International Rice Mills), Woodland, California

• Gulf Pacific Disc, Inc., Houston, Texas

• Nidera US LLC, Wilton, Connecticut (a subsidiary of Nidera BV (Netherlands))

3. Add an affiliate Member under an existing Member:

• Farmers' Rice Cooperative, Sacramento, California changes to Farmers' Rice Cooperative, Sacramento, California and its subsidiary Farmers' Rice Cooperative dba Pirmi (Pacific International Rice Mills), Woodland, California

• TRC Trading Corporation, Roseville, California (a subsidiary of TRC Group Inc., Roseville, California) and its subsidiary Gulf Rice Arkansas II, LLC, Crawfordsville, Arkansas changes to TRC Trading Corporation, Roseville, California (a subsidiary of TRC Group Inc., Roseville, California) and its subsidiaries Gulf Rice Arkansas II, LLC, Crawfordsville, Arkansas and Bulk Agricultural Commodities, LLC, Roseville, California

4. Change the names of the following Members of the Certificate:

• ADM Latin, Inc., Decatur, Illinois, ADM Grain Company, Decatur, Illinois, and ADM Rice, Inc., Tarrytown, New York (subsidiaries of Archer Daniels Midland Company) changes to ADM Latin, Inc., Decatur, Illinois, ADM Grain Company, Decatur, Illinois, and ADM Rice, Inc., White Plains, New York (subsidiaries of Archer Daniels Midland Company)

• American Commodity Company, LLC, Williams, California changes to American Commodity Company, LLC, Williams, California, managed by California Commodity Traders, Inc., Incline Village, Nevada

• Gulf Pacific Rice Co., Inc., Houston, Texas; Gulf Rice Milling, Inc., Houston, Texas; and Harvest Rice, Inc., McGehee, Arkansas (each a subsidiary of Gulf Pacific, Inc., Houston, Texas) changes to Gulf Pacific Rice Co., LLC, Houston, Texas; Gulf Rice Milling, LLC, Houston, Texas; and Harvest Rice, LLC, McGehee, Arkansas (each a subsidiary of Gulf Pacific, LLC, Houston, Texas)

• Louisiana Rice Mill, LLC, Mermentau, Louisiana changes to Supreme Rice, LLC, Mermentau, Louisiana

AARQ's proposed amendment of its Certificate would result in the following Members list:

• ADM Latin, Inc., Decatur, Illinois, ADM Grain Company, Decatur, Illinois, and ADM Rice, Inc., White Plains, New York (subsidiaries of Archer Daniels Midland Company)

• American Commodity Company, LLC, Williams, California, managed by California Commodity Traders, Inc., Incline Village, Nevada

• Associated Rice Marketing Cooperative (ARMCO), Richvale, California

• Cargill Americas, Inc., and its subsidiary CAI Trading, LLC, Coral Gables, Florida

• Farmers' Rice Cooperative, Sacramento, California and its subsidiary Farmers' Rice Cooperative dba Pirmi (Pacific International Rice Mills), Woodland, California

• Farmers Rice Milling Company, Inc., Lake Charles, Louisiana

• Far West Rice, Inc., Durham, California

• Gulf Pacific Rice Co., LLC, Houston, Texas; Gulf Rice Milling, LLC, Houston, Texas; and Harvest Rice, LLC, McGehee, Arkansas (each a subsidiary of Gulf Pacific, LLC, Houston, Texas)

• Interra International, LLC, Chapel Hill, North Carolina

• Itochu International Inc., Portland, Oregon (a subsidiary of Itochu Corporation (Japan))

• JFC International Inc., Los Angeles, California (a subsidiary of Kikkoman Corp.)

• JIT Products, Inc., Davis, California

• Kennedy Rice Dryers, L.L.C., Mer Rouge, Louisiana

• Kitoku America, Inc., Burlingame, California (a subsidiary of Kitoku Shinryo Co., Ltd. (Japan))

• LD Commodities Rice Merchandising LLC, Wilton, Connecticut, and LD Commodities Interior Rice Merchandising LLC, Kansas City, Missouri (subsidiaries of Louis Dreyfus Commodities LLC, Wilton, Connecticut)

• Nishimoto Trading Co., Ltd. dba Wismettac Asian Foods, Santa Fe Springs, California (a subsidiary of Nishimoto Trading Company, Ltd. (Japan)

• Producers Rice Mill, Inc., Stuttgart, Arkansas

• Riceland Foods, Inc., Stuttgart, Arkansas

• Riviana Foods Inc., Houston, Texas (a subsidiary of Ebro Foods, S.A. (Spain)), for the activities of itself and its subsidiary, American Rice, Inc., Houston, Texas

• Sinamco Trading Inc., Minneapolis, Minnesota

• SunFoods LLC, Woodland, California

• SunWest Foods, Inc., Davis, California

• Supreme Rice, LLC, Mermentau, Louisiana

• The Sun Valley Rice Co., LLC, Arbuckle, California

• TRC Trading Corporation, Roseville, California (a subsidiary of TRC Group Inc., Roseville, California) and its subsidiaries Gulf Rice Arkansas II, LLC, Crawfordsville, Arkansas and Bulk Agricultural Commodities, LLC, Roseville, California

• Trujillo & Sons, Inc., Miami, Florida

• Veetee Foods Inc., Islandia, New York (a subsidiary of Veetee Investments Corporation (Bahamas))

• Wehah Farm, Inc., dba Lundberg Family Farms, Richvale, California

Dated: April 21, 2025.
Amanda Reynolds,
Acting Director, Office of Trade and Economic Analysis, International Trade Administration, U.S. Department of Commerce.

[FR Doc. 2025-07120 Filed 5-1-25; 8:45 am]

BILLING CODE 3510-DR-P